DEPARTMENT OF HEALTH AND HUMAN SERVICES

Agency for Healthcare Research and Quality

Agency Information Collection Activities: Proposed Collection; Comment Request

AGENCY: Agency for Healthcare Research and Quality, HHS.

ACTION: Information collection notice.

SUMMARY: This notice announces the intention of the Agency for Healthcare Research and Quality (AHRQ) to request that the Office of Management and Budget (OMB) approve the proposed information collection project (new): “Supporting and Evaluating AHRQ's Long COVID Care Network.”

DATES: Comments on this notice must be received by February 18, 2025.

ADDRESSES: Written comments should be submitted to: Doris Lefkowitz, Reports Clearance Officer, AHRQ, by email at REPORTSCLEARANCEOFFICER@ahrq.hhs.gov.

FOR FURTHER INFORMATION CONTACT: Doris Lefkowitz, AHRQ Reports Clearance Officer, (301) 427-1477, or by email at REPORTSCLEARANCEOFFICER@ahrq.hhs.gov.

SUPPLEMENTARY INFORMATION:

Proposed Project

Supporting and Evaluating AHRQ's Long COVID Care Network

Long COVID is a chronic condition in which people continue to experience persistent, varying, and potentially disabling impacts after the acute COVID-19 illness. Up to one third of people with COVID-19 experience Long COVID with the numbers higher in females, transgender and bisexual people, people without a college degree, and people with disability. Some of these groups often face barriers that can worsen the impact of Long COVID on their lives and complicate recovery. Some of the barriers they face include difficulty with healthcare access, communication and internet accessibility, lack of health insurance, lower health literacy, greater difficulty using patient portals and telemedicine, and greater medical and social vulnerabilities.

Clinics to provide outpatient Long COVID care have emerged across the country to offer coordinated, multidisciplinary care that meets the complex, diverse, multi-system, and specialized needs of people with Long COVID. There are some Long COVID clinic models that share common elements including care coordination and access to multidisciplinary care. Though these clinics meet critical needs in the healthcare system, they face significant challenges including staffing shortages; long patient waitlists; lack of funding or reimbursement for some services; lack of clear treatment protocols; limited capacity to provide timely, comprehensive, coordinated, and person-centered care; and limited clinician knowledge and training in Long COVID management. Other barriers these clinics face include the limited number of Long COVID clinics and specialists, concentration of clinics in academic centers and urban areas, late recognition of Long COVID symptoms by clinicians, and delayed referral to Long COVID clinics or appropriate specialists.

In response, AHRQ awarded grants to 12 multidisciplinary Long COVID clinics across the country (the “AHRQ Long COVID Care Network”) with the goal to expand access to comprehensive, coordinated, and person-centered care for people with Long COVID, particularly underserved populations that are disproportionately impacted by the effects of Long COVID. Specifically, the grants are designed to expand access and care, develop and implement new or improved care delivery models, foster best practices for Long COVID management, and support the primary care community in Long COVID education and management.

The information and data collected for this study will facilitate an evaluation of the outcomes of AHRQ's Long COVID Care Network. The evaluation reflects AHRQ's mission to produce evidence to make healthcare safer, higher quality, more accessible, equitable, and affordable; and to work within the U.S. Department of Health and Human Services and with other partners to make sure that the evidence is understood and used. This study is a new data collection request, and the data to be collected are not available elsewhere unless obtained through this data collection.

This project seeks to assess the following:

(1) How is the AHRQ Long COVID Care Network implementing strategies to:

(a) expand access to comprehensive, coordinated, person-centered care,

(b) engage clinicians in Long COVID education and management, and

(c) educate patients and communities about Long COVID?

(2) What was the reach of the AHRQ Long COVID Care Network strategies, especially to underserved populations that are disproportionately impacted by the effects of Long COVID?

(3) What were the patterns of:

(a) service utilization,

(b) patient outcomes and experiences,

(c) referral streams, and

(d) primary care communication and coordination within the AHRQ Long COVID Care Network?

To answer these research questions AHRQ will implement two new data collections that require OMB approval. These data collections include:

(1) Grantee Interviews—Conducted during annual site visits. At each site visit, up to five 90-minute interviews will be conducted—for a total of 60 interviews across the 12 sites. Each interview will include up to two respondents—for a total of 120 respondents across the sites. The interview respondents will include grantee principal investigators, research and clinical staff at grantee Long COVID clinics, and representatives from grantee partner organizations (such as primary care practices and community organizations). The primary purpose of the interviews is to query about how the grantees developed and implemented new or improved care delivery models, implementation strategies, and operational workflows; identified barriers and facilitators to implementation and mitigation strategies for implementation challenges; and considered the potential sustainability of their program when AHRQ funding ends.

(2) Grantee Survey—The survey will be administered to each grantee annually. Each grantee's assigned evaluation liaison, or their designated representative, will respond to the survey. The primary purpose of the survey is to collect data on the services and personnel at grantee Long COVID clinics and the costs and resources associated with the implementation of the grant.

This study is being conducted by AHRQ through its contractor, 2M Research Services (2M), pursuant to AHRQ's statutory authority to conduct and support research on health care and on systems for the delivery of such care, including activities with respect to the quality, effectiveness, efficiency, appropriateness and value of health care services and with respect to quality measurement and improvement [42 U.S.C 299a(a)(1) and (2)].

Method of Collection

The Grantee Survey will be delivered via a web form to the evaluation liaison of each grantee. The evaluation liaison will have the option to designate another person to complete sections of or the entire survey if needed. The contractor will develop a unique survey link for each grantee. The evaluation team will disseminate the findings from the grantee interviews and Grantee Survey that answer the evaluation questions through evaluation reports developed for AHRQ and through other dissemination products (e.g., newsletters, blogs, conference presentations and papers, etc.) to a learning community of the grantees; an external contributor group consisting of health system leaders, payers and policymakers, people with lived experience, professional association representatives, and subject matter experts; and to the general public.

Estimated Annual Respondent Burden

Exhibit 1 shows the estimated annualized burden hours for the respondents' time to participate in this data collection. The total annual burden hours are estimated to be 186 hours.

The Grantee Interviews and Grantee Survey will be conducted with healthcare providers and grantee program staff and partners.

1. Grantee Interviews—Completed once by 120 respondents. The interview takes 1.5 hours to complete.

2. Grantee Survey—Completed once by 12 respondents. The survey takes 30 minutes to complete.

Exhibit 2 shows the estimated annual cost burden associated with the respondents' time to participate in this data collection. The annual cost burden is estimated to be $21,390. Although the education level of respondents may vary, we anticipate many of them will have a medical degree and be employed as a physician or a related occupation. The average hourly wage for Physicians as reported by the Bureau of Labor Statistics ($115.00) was used.

Exhibit 1—Estimated Annualized Burden Hours
Form name | Number of respondents | Number of responses per respondent | Hours per response | Total burden hours
Grantee Interviews | 120 | 1 | 90/60 | 180
Grantee Survey | 12 | 1 | 30/60 | 6
Total | 132 | 1 |  | 186

Exhibit 2—Estimated Annualized Cost Burden
Form name | Total burden hours | Average hourly wage rate * | Total cost burden
Grantee Interviews | 180 | ᵃ $115.00 | $20,700
Grantee Survey | 6 | ᵇ 115.00 | 690
Total | 186 |  | 21,390
* National Compensation Survey: Occupational wages in the United States May 2023, “U.S. Department of Labor, Bureau of Labor Statistics.” https://www.bls.gov/oes/current/oes_nat.htm.
ᵃ Based on the median wages for Physicians 29-1210.
ᵇ Based on the median wages for Physicians 29-1210.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: December 16, 2024.
Marquita Cullom,
Associate Director.

[FR Doc. 2024-30337 Filed 12-19-24; 8:45 am]

BILLING CODE 4160-90-P